DEPARTMENT OF EDUCATION

Applications for New Awards; Personnel Development To Improve Services and Results for Children With Disabilities—Preparation of Special Education, Early Intervention, and Related Services Leadership Personnel

AGENCY: Office of Special Education and Rehabilitative Services, Department of Education.

ACTION: Notice.

SUMMARY: The Department of Education (Department) is issuing a notice inviting applications for new awards for fiscal year (FY) 2025 for Personnel Development to Improve Services and Results for Children with Disabilities—Preparation of Special Education, Early Intervention, and Related Services Leadership Personnel.

DATES:

Applications Available: October 8, 2024.

Deadline for Transmittal of Applications: November 22, 2024.

Deadline for Intergovernmental Review: February 5, 2025.

Pre-Application Webinar Information: No later than October 15, 2024, the Office of Special Education and Rehabilitative Services will post pre-recorded informational webinars designed to provide technical assistance to interested applicants. The webinars may be found at www.ed.gov/about/ed-offices/osers/osep/new-osep-grant-competitions.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs.

FOR FURTHER INFORMATION CONTACT: Celia Rosenquist, U.S. Department of Education, 400 Maryland Avenue SW, Room 4A10, Washington, DC 20202. Telephone: 202-245-7373. Email: Celia.Rosenquist@ed.gov.

If you are deaf, hard of hearing, or have a speech disability and wish to access telecommunications relay services, please dial 7-1-1.

SUPPLEMENTARY INFORMATION:

Full Text of Announcement

I. Funding Opportunity Description

Purposes of Program: The purposes of this program are to (1) help address State-identified needs for personnel preparation in special education, early intervention, related services, and regular education to work with children, including infants and toddlers, with disabilities; and (2) ensure that those personnel have the necessary skills and knowledge, derived from practices that have been determined through scientifically based research and experience, to be successful in serving those children.

Assistance Listing Number: 84.325D.

OMB Control Number: 1820-0028.

Priorities: This competition includes one absolute priority and two competitive preference priorities. In accordance with 34 CFR 75.105(b)(2)(v), the absolute priority is from allowable activities specified in the statute (see sections 662 and 681 of the Individuals with Disabilities Education Act (IDEA); 20 U.S.C. 1462 and 1481). Competitive Preference Priority 1 is from the Administrative Priorities for Discretionary Grants Programs published in the Federal Register on March 9, 2020 (85 FR 13640) (Administrative Priorities), and Competitive Preference Priority 2 is from the Secretary's Supplemental Priorities and Definitions for Discretionary Grants Programs published in the Federal Register on December 10, 2021 (86 FR 70612) (Supplemental Priorities).

Absolute Priority: For FY 2025 and any subsequent year in which we make awards from the list of unfunded applications from this competition, this priority is an absolute priority. Under 34 CFR 75.105(c)(3), we consider only applications that meet this priority.

This priority is:

Preparation of Special Education, Early Intervention, and Related Services Leadership Personnel.

Background:

The Department is committed to promoting equity for children with disabilities to access educational resources and opportunities. The Department also places a high priority on increasing the number of leadership personnel, including increasing the number of multilingual leadership personnel and leadership personnel from racially and ethnically diverse backgrounds, who provide, or prepare others to provide, services to children with disabilities. Further, the Department also prioritizes diversity and being inclusive of all eligible applicants, particularly applications from new potential grantees that prepare special education, early intervention, and related services leadership personnel. To support these goals, under this absolute priority, the Department will fund projects that support doctoral degree programs to prepare and increase the number of personnel who are well qualified for, and can act effectively in, leadership positions as researchers and special education/early intervention/related services personnel preparers in institutions of higher education (IHEs), or as leaders in State educational agencies (SEAs), lead agencies (LAs) under Part C of IDEA, local educational agencies (LEAs), early intervention services programs (EIS programs), or schools, including increasing the number of multilingual leadership personnel and leadership personnel from racially and ethnically diverse backgrounds at the doctoral level in special education, early intervention, and related services.

There is a well-documented need for special education, early intervention, and related services leadership personnel who serve critical roles within different settings (Bellamy & Iwaszuk, 2017; National Association of School Psychologists, 2021; NCSI, 2018a; NCSI, 2018b; Robb et al., 2012; Tucker et al., 2020). For example, leadership personnel in IHEs teach practices supported by research to future special education, early intervention, related services, and general education professionals. These leaders also conduct research that increases knowledge of effective interventions and services for children, including infants and toddlers, and youth with disabilities. Another example of a critical leadership role includes special education and early intervention administrators who supervise and evaluate the implementation of instructional programs to ensure that State or local agencies are meeting the needs of children with disabilities. Administrators also ensure that schools and programs meet Federal, State, and local requirements for special education, early intervention, and related services.

The need to increase the number of multilingual leadership personnel and leadership personnel from racially and ethnically diverse backgrounds has been recognized due to the significant benefits for both personnel and the children they serve (e.g., Carver-Thomas, 2018; deBettencourt et al., 2016). For example, special education programs at IHEs benefit from multilingual faculty and faculty from racially and ethnically diverse backgrounds who bring different perspectives, experiences, and contexts to the program and its design, which, in turn, benefits the individuals enrolled in the program and the children with disabilities those individuals will ultimately serve (e.g., deBettencourt, et al., 2016; Maggin et al., 2021). A multilingual faculty and faculty from racially and ethnically diverse backgrounds also brings different perspectives, experiences, and contexts to research, which is critical to promoting innovative advances in knowledge and practice (e.g., Hofstra et al., 2020), including advances in knowledge of effective culturally and linguistically responsive instruction and interventions and services that improve outcomes for children with disabilities. Special education and early intervention administrators have a critical role in increasing the number of multilingual personnel and personnel from racially and ethnically diverse backgrounds who support children with disabilities through policies, initiatives, and promoting an inclusive culture in early intervention and school settings (e.g., Carver-Thomas, 2018; Steiner et al., 2022) as well as retaining personnel. Administrators also ensure that schools and programs implement culturally and linguistically responsive instructional programs to ensure that State or local agencies are meeting the needs of children with disabilities (Bellamy et al., 2014).

Leadership personnel can have significant influence in preparing and supporting personnel, policy, and research. All leadership personnel need to promote high expectations and have current knowledge of effective culturally and linguistically responsive instruction, interventions, and services that improve outcomes for children with disabilities. Critical competencies for special education, early intervention, and related services leadership personnel vary depending on the type of leadership personnel and the requirements of the preparation program, but can include, for example, skills needed for postsecondary instruction, administration and supervision, interpreting and applying research, policy development and implementation, organizational and systems change, communication, collaboration, and the use of technologies to support in-person and distance education (Boscardin & Lashley, 2018; Bruns et al., 2017; McCorkle et al., 2023). Scholars' acquisition of competencies and success in doctoral programs depend on factors such as mentoring, supportive supervision, experiential learning opportunities, access to resources, and developing and enhancing professional networks and collaborative learning opportunities (Douglas, 2020; McCorkle et al., 2023; Sverdlik et al., 2018). Networks, in particular, are integral to leadership development and critical to addressing complex problems (Cullen-Lester et al., 2017; Hoppe & Reinelt, 2010).

Priority:

The purpose of this priority is to support doctoral degree programs to prepare and increase the number of personnel who are well-qualified for, and can act effectively in, leadership positions as researchers and special education/early intervention/related services personnel preparers in IHEs, or as leaders in SEAs, LAs under Part C of IDEA, LEAs, or EIS programs, including increasing the number of multilingual leadership personnel and leadership personnel from racially and ethnically diverse backgrounds at the doctoral level in special education, early intervention, and related services. Proposed projects must be designed to prepare graduates to be well-qualified for, and act effectively in, leadership positions as researchers and special education/early intervention/related services personnel preparers in IHEs, or as leaders in SEAs, LAs, LEAs, or EIS programs. Projects must support a program that culminates in a doctoral degree (Ph.D. or Ed.D.).

Note: Eligible applicants include partnerships ¹ that are comprised of two or three IHEs with doctoral programs that prepare scholars ² and otherwise meet the eligibility requirements. For additional information regarding group applications, refer to 34 CFR 75.127, 75.128, and 75.129.

¹ For the purposes of this priority, a “partnership” is a group comprised of two or three IHEs with doctoral programs in which (a) each IHE enrolls and supports scholars as part of the partnership, and (b) the partnership provides joint experiences each year for scholars to learn from faculty and scholars at each participating IHE that promote the acquisition of leadership competencies through coursework, research, internship experiences, work-based experiences, or other opportunities as a requirement of the project.

² For the purposes of this priority, “scholar” is limited to an individual who (a) is pursuing a doctoral degree related to special education, early intervention, or related services; (b) receives scholarship assistance as authorized under section 662 of IDEA (34 CFR 304.3(g)); and (c) will be able to be employed in a position that serves children with disabilities for at least 51 percent of their time or case load. See https://pdp.ed.gov/OSEP/Home/Regulation for more information.

Note: Project periods under this priority may be up to 60 months. Projects should be designed to ensure that all proposed scholars successfully complete the program within 60 months from the start of the project. The Secretary may reduce continuation awards for any project in which scholars are not on track to complete the program by the end of that period.

To be considered for funding under this absolute priority, applicants must meet the application requirements contained in the priority. All projects funded under this absolute priority also must meet the programmatic and administrative requirements specified in the priority.

Note: Preparation programs that lead to clinical doctoral degrees in related services (e.g., a Doctor of Audiology degree or Doctor of Physical Therapy degree) are not included in this priority. These types of preparation programs are eligible to apply for funding under the Personnel Preparation of Special Education, Early Intervention, and Related Services Personnel at Historically Black Colleges and Universities, Tribally Controlled Colleges and Universities, and other Minority Serving Institutions priority (84.325M) that the Office of Special Education Programs (OSEP) intends to fund in FY 2025.

To meet the requirements of this priority, an applicant must—

(a) Demonstrate, in the narrative section of the application under “Significance,” how—

(1) The proposed project would increase the number of leadership personnel who are well qualified to advance practice, policy, or research in the project's preparation focus area and how it will provide, or prepare others to provide, effective culturally and linguistically responsive instruction, interventions, and services that improve outcomes for children with disabilities;

(2) The doctoral program to date has been successful (including program data, if available) in producing leadership personnel. Applicants should include data for the number of students who have completed the doctoral program disaggregated by race, national origin and primary language(s), and disability status; the types of leadership positions that recent program graduates are employed in related to their preparation; the professional accomplishments of program graduates that demonstrate their leadership in special education, early intervention, or related services (e.g., public service, awards, publications); and the percentage of program graduates finding employment related to their preparation serving students with disabilities in underserved communities if applicable (e.g., employed in districts with high rates of poverty); and

Note: Data on the success of a doctoral program should be no more than 5 years old on the start date of the project proposed in the application. When reporting percentages, the denominator (i.e., the total number of scholars or program graduates) must be provided.

(3) Scholar competencies to be acquired in the program relate to knowledge and skills needed by the leadership personnel in the project's proposed preparation focus area to provide, or prepare others to provide, effective culturally and linguistically responsive instruction, interventions, and services, including through distance education, that improve outcomes for children with disabilities.

(b) Demonstrate, in the narrative section of the application under “Quality of project services,” how—

(1) The applicant will recruit and retain scholars participating in the project. To meet this requirement, the narrative must describe—

(i) The selection criteria the applicant will use to identify doctoral applicants for admission to the program;

Note: Doctoral applicants admitted to the program must be newly enrolled in the doctoral training program within the proposed project's preparation focus area;

(ii) The recruitment strategies the project will use to attract doctoral applicants, including from groups that are underrepresented in the field, including applicants with disabilities, multilingual applicants, and applicants from racially and ethnically diverse backgrounds, to ensure a diverse pool of applicants; and

Note: Applicants should engage in focused outreach and recruitment to increase the number of doctoral applicants from groups that are underrepresented in the field, including applicants with disabilities, multilingual applicants, and applicants from racially and ethnically diverse backgrounds, but the scholar selection criteria the applicant intends to use must ensure equal access and treatment of all applicants seeking admission to the program and must be consistent with applicable law, including Federal civil rights laws.

(iii) The approach that will be used to mentor and support all scholars in completing the program and preparing them for careers in special education, early intervention, or related services; and

(2) The project is designed to promote the acquisition of the competencies needed by leadership personnel in the project's proposed preparation focus area to provide, or prepare others to provide, effective culturally and linguistically responsive instruction, interventions, and services that improve outcomes for children with disabilities. To address this requirement, the applicant must describe how—

(i) The proposed project components, such as coursework, research, internship experiences, work-based experiences, program evaluation, and other opportunities provided to scholars, and sequence of the components will enable the scholars to acquire the competencies needed by leadership personnel;

Note: Applicants that propose partnership projects must describe how the project components and sequence of the components are designed to ensure that scholars have opportunities to acquire the competencies needed by leadership personnel through engaging and collaborating with faculty and scholars at each IHE participating in the partnership.

(ii) The proposed project components will prepare scholars to provide, or prepare others to provide, culturally and linguistically responsive effective instruction, interventions, and services that improve outcomes for children with disabilities, in a variety of educational or early childhood and early intervention settings, including in-person and remote settings;

(iii) The proposed project will engage partners, including multilingual individuals, individuals and families from racially and ethnically diverse backgrounds, public or private entities (e.g., organizations, centers, agencies, schools, programs) that provide services to multilingual children with disabilities and their families, and public or private entities that provide services to children of color with disabilities and their families, to inform project components; and

(iv) The proposed project components will promote the acquisition of scholars' knowledge of strategies and approaches in attracting, preparing, and retaining future personnel with disabilities, multilingual personnel and personnel from racially and ethnically diverse backgrounds, who will work with, and provide effective culturally and linguistically responsive instruction, interventions, and services to, children with disabilities and their families.

(c) Demonstrate, in the narrative section of the application under “Quality of the Project Personnel and Management Plan,” how—

(1) The project director and other key project personnel are qualified to prepare scholars in the project's preparation focus area;

(2) The project director and other key project personnel will manage the components of the project;

(3) The time commitments of the project director and other key project personnel are adequate to meet the objectives of the proposed project; and

(4) For proposed partnership projects, the project will establish policies, procedures, standards, and fiscal management of the partnership.

(d) Demonstrate, in the narrative section of the application under “Adequacy of resources,” how—

(1) Information regarding the types of accommodations and resources available to fully support scholars' well-being and a work-life balance (e.g., university and community mental health supports, counseling services, health resources, housing resources, childcare) will be disseminated and how the project will support scholars accessing those accommodations and resources on a timely basis, if needed, while the scholar is in the project;

(2) The types of accommodations and resources provided to support scholars' well-being and a work-life balance will be individualized based on scholars' cultural, academic, and social emotional needs with the goal of supporting them to complete the program; and

(3) The budget is adequate for meeting the project objectives and mitigating financial burden to scholars while completing the program of study.

Note: Scholar support does not need to be uniform for all scholars and should be customized for individual scholars based on the scholar's financial needs, including a consideration of all costs associated with the attendance, even if that means enrolling fewer scholars as part of the proposed project. Scholar support can include support for cost of attendance (i.e., tuition and fees; university student health insurance; an allowance for books, materials, and supplies; an allowance for miscellaneous personal expenses; an allowance for dependent care, such as childcare; an allowance for transportation; and an allowance for room and board), travel in conjunction with training assignments, including conference registration, and stipends to support scholars' completion of the program and professional development. Projections for scholar support should consider tuition increases and cost of living increases over the project period.

(e) Demonstrate, in the narrative section of the application under “Quality of the project evaluation,” how the applicant will—

(1) Evaluate how well the goals or objectives of the proposed leadership project have been met. The applicant must describe the outcomes to be measured for both the project and the scholars, particularly the acquisition of scholars' competencies, and the evaluation methodologies to be employed, data collection methods, and possible analyses; and

(2) Collect, analyze, and use data on scholars supported by the project to inform the proposed project on an ongoing basis.

(f) Demonstrate, in the appendices or narrative under “Required project assurances” as directed, that the following requirements are met. The applicant must—

(1) Include, in Appendix A of the application—

(i) Charts, tables, figures, graphs, screen shots, and visuals that provide information directly relating to the application requirements for the narrative. Appendix A should not be used for supplementary information. Please note that charts, tables, figures, graphs, and screen shots can be single-spaced when placed in Appendix A; and

(ii) A letter of support from a public or private partnering agency, school, or program, that states it will provide scholars with a field or clinic experience in a high-need LEA,³ a high-poverty school,⁴ a school implementing a comprehensive support and improvement plan,⁵ a school implementing a targeted support and improvement plan ⁶ for children with disabilities, an SEA, an early childhood and early intervention program located within the geographical boundaries of a high-need LEA, or an early childhood and early intervention program located within the geographical boundaries of an LEA serving the highest percentage of schools identified for comprehensive support and improvement or implementing targeted support and improvement plans in the State;

³ For the purposes of this priority, “high-need LEA” means an LEA (a) that serves not fewer than 10,000 children from families with incomes below the poverty line; or (b) for which not less than 20 percent of the children are from families with incomes below the poverty line.

⁴ For the purposes of this priority, “high-poverty school” means a school in which at least 50 percent of students are from low-income families as determined using one of the measures of poverty specified in section 1113(a)(5) of the Elementary and Secondary Education Act of 1965, as amended (ESEA). For middle and high schools, eligibility may be calculated on the basis of comparable data from feeder schools. Eligibility as a high-poverty school under this definition is determined on the basis of the most currently available data.

⁵ For the purposes of this priority, “school implementing a comprehensive support and improvement plan” means a school identified for comprehensive support and improvement by a State under section 1111(c)(4)(D) of the ESEA that includes (a) not less than the lowest performing 5 percent of all schools in the State receiving funds under title I, part A of the ESEA; (b) all public high schools in the State failing to graduate one third or more of their students; and (c) public schools in the State described in section 1111(d)(3)(A)(i)(II) of the ESEA.

⁶ For the purposes of this priority, “school implementing a targeted support and improvement plan” means a school identified for targeted support and improvement by a State that has developed and is implementing a school-level targeted support and improvement plan to improve student outcomes based on the indicators in the statewide accountability system as defined in section 1111(d)(2) of the ESEA.

(2) Include in Appendix B of the application—

(i) A table that includes the project's required coursework that provides the title, description, and learning goals; and

(ii) Four exemplars of course syllabi in research methods, evaluation methods, or data analysis courses required by the degree program;

Note: Partnership projects should include two course syllabi from each participating IHE.

(3) Include in the application budget attendance by the project director at a 3-day project directors' meeting in Washington, DC, during each year of the project. The budget may also provide for the attendance of scholars at the same 3-day project directors' meetings in Washington, DC; and

(4) Provide an assurance that—

(i) The project will meet the requirements in 34 CFR 304.23, particularly those related to (A) informing all scholarship recipients of their service obligation commitment; and (B) disbursing scholarships. Failure by a grantee to properly meet these requirements is a violation of the grant award that may result in the grantee being liable for returning any misused funds to the Department;

(ii) The project will meet the statutory requirements in section 662(e) through (h) of IDEA;

(iii) The project will be operated in a manner consistent with nondiscrimination requirements contained in the U.S. Constitution and Federal civil rights laws;

(iv) All the syllabi for the project's required coursework will be provided if requested by OSEP;

(v) At least 65 percent of the total award over the project period (i.e., up to 5 years) will be used for scholar support;

(vi) Scholar support provided by the project (i.e., tuition and fees; university student health insurance; an allowance for books, materials, and supplies; an allowance for miscellaneous personal expenses; an allowance for dependent care, such as childcare; an allowance for transportation; and an allowance for room and board), travel in conjunction with training assignments, including conference registration, and stipends to support scholars' completion of the program and professional development will not be conditioned on the scholar working for the grantee (e.g., personnel at the IHE);

(vii) The project director, key personnel, and scholars will actively participate in the cross-project collaboration, advanced trainings, and cross-site learning opportunities (e.g., webinars, briefings) supported by OSEP. This network is intended to promote opportunities for participants to share resources and generate new knowledge by addressing topics of common interest to participants across projects including Department priorities and needs in the field;

(viii) The project website, if applicable, will be of high quality, with an easy-to-navigate design that meets government or industry-recognized standards for accessibility;

(ix) Scholar accomplishments (e.g., public service, awards, publications) will be reported in annual and final performance reports; and

(x) Annual data will be submitted on each scholar who receives grant support (OMB Control Number 1820-0686). The primary purposes of the data collection are to track the service obligation fulfillment of scholars who receive funds from OSEP grants and to collect data for program performance measure reporting under 34 CFR 75.110. Data collection includes the submission of a signed, completed pre-scholarship agreement and exit certification for each scholar funded under an OSEP grant (see paragraph (f)(4)(i) of this priority). Applicants are encouraged to visit the Personnel Development Program Data Collection System (DCS) website at https://pdp.ed.gov/osep for further information about this data collection requirement.

Competitive Preference Priorities: For FY 2025 and any subsequent year in which we make awards from the list of unfunded applications from this competition, these priorities are competitive preference priorities. Under 34 CFR 75.105(c)(2)(i), we award an additional 5 points to an application that meets the Competitive Preference Priority 1 and an additional 3 points to an application that meets Competitive Preference Priority 2.

Applicants should indicate in the abstract if the competitive preference priorities are addressed, and which competitive preference priorities are being addressed.

The competitive preference priorities are:

Competitive Preference Priority 1: Applications from New Potential Grantees (0 or 5 points).

(a) Under this priority, an applicant must demonstrate that the applicant (i.e., the IHE) has not had an active discretionary grant under the ALN 84.325D or 84.325H, including through membership in a group application submitted in accordance with 34 CFR 75.127-75.129, in the last 5 years before the deadline date for submission of applications under ALN 84.325D.

(b) For the purposes of this priority, a grant or contract is active until the end of the grant's or contract's project or funding period, including any extensions of those periods that extend the grantee's or contractor's authority to obligate funds.

Competitive Preference Priority 2: Promoting Equity in Student Access to Educational Resources and Opportunities (0 or 3 points).

Under this priority, an applicant must demonstrate the project will be implemented by or in partnership with one or both of the following entities:

(a) Historically Black Colleges and Universities.⁷

⁷ For the purposes of this priority, “Historically Black Colleges and Universities” means colleges and universities that meet the criteria in 34 CFR 608.2.

(b) Minority-serving institutions.⁸

⁸ For purposes of this priority, “Minority-Serving Institution” means an institution that is eligible to receive assistance under sections 316 through 320 of part A of title III, under part B of title III, or under title V of the Higher Education Act of 1965. For purposes of this priority, the Department will use the FY 2024 Eligibility Matrix to determine MSI eligibility (see www.ed.gov/grants-and-programs/grants-higher-education/eligibility-designations-higher-education-programs).

References

Bellamy, G.T., Crockett, J.B, & Nordengren, C. (2014). Preparing school leaders for every student's learning (Document No. LS-2). Collaboration for Effective Educator, Development, Accountability, and Reform Center. https://ceedar.education.ufl.edu/wp-content/uploads/2014/09/LS-2_FINAL_09-18-14.pdf.

Bellamy, T., & Iwaszuk, W. (2017, October). Responding to the need for new local special education administrators: A case study. CEEDAR Center. https://ceedar.education.ufl.edu/wp-content/uploads/2018/02/Case-Study-SPED-10-29-17.pdf.

Boscardin, M.L., & Lashley, C.L. (2018). Expanding the leadership framework to support socially just special education policy, preparation, and standards. In J.B. Crockett, B.S. Billingsley, & M.L. Boscardin (Eds.), The handbook of leadership and administration for special education. Routledge.

Bruns, D.A., LaRocco, D.J., Sharp, O.L., & Sopko, K.M. (2017). Leadership competencies in U.S. early intervention/early childhood special education service systems: A national survey. Infants and Young Children, 30(4), 304-319.

Carver-Thomas, D. (2018). Diversifying the teaching profession: How to recruit and retain teachers of color. Learning Policy Institute. https://learningpolicyinstitute.org/product/diversifying-teaching-profession-report. https://doi.org/10.54300/559.310.

Cullen-Lester, K.L., Maupin, C.K., & Carter, D.R. (2017). Incorporating social networks in leadership development: A conceptual model and evaluation of research and practice. The Leadership Quarterly, 28(1), 130-152. https://doi.org/10.1016/j.leaqua.2016.10.005.

deBettencourt, L.U., Hoover, J.J., Rude, H.A., & Taylor, S.S. (2016). Preparing special education higher education faculty: The influence of contemporary education issues and policy recommendations. Teacher Education and Special Education, 39, 121-133. https://doi.org/10.1177/0888406416641007.

Douglas, A.S. (2020). Engaging doctoral students in networking opportunities: A relational approach to doctoral study. Teaching in Higher Education, 28(2), 322-338. https://doi.org/10.1080/13562517.2020.1808611.

Hofstra, B., Kulkarni, V.V., Munoz-Najar Galvez, S., He, B., Jurafsky, D., & McFarland, D.A. (2020). The Diversity-Innovation paradox in science. Proceedings of the National Academy of Sciences, 117(17), 9284-9291. https://doi.org/10.1073/pnas.1915378117.

Hoppe, B., & Reinelt, C. (2010). Social network analysis and the evaluation of leadership networks. The Leadership Quarterly, 21(4), 600-619. https://doi.org/10.1016/j.leaqua.2010.06.004.

Maggin, D.M., Collins, T.A., Foster, J.A., Scott, M.N., Mossing, K.W., & Dorsey, C.M. (2021). Faculty perspectives on the recruitment, retention, and preparation of special education doctoral students of color. Teacher Education and Special Education, 45(3), 227-245. https://doi.org/10.1177/08884064211046230.

McCorkle, L.S., Vestal, A., & Diamond, L.L. (2023). Preparing doctoral students in special education: What do we really know? Teacher Education and Special Education, 46(3), 185-203. https://doi.org/10.1177/08884064221134815.

National Association of School Psychologists. (2021). Workforce shortages. www.nasponline.org/research-and-policy/policy-priorities/critical-policy-issues/shortage-of-school-psychologists.

National Center for Systemic Improvement (NCSI). (2018a). Leadership turnover: The impact on State special education systems. https://osepideasthatwork.org/sites/default/files/500_NCSI%20LT_SPED_PtB.pdf.

National Center for Systemic Improvement (NCSI). (2018b). Leadership turnover: The impact on State early intervention systems. https://osepideasthatwork.org/sites/default/files/500_NCSI%20LT_EI.pdf.

Robb, S.M., Smith, D.D., & Montrosse, B.E. (2012). A context of the demand for special education faculty: A study of special education teacher preparation programs. Teacher Education and Special Education, 35(2), 128-139. https://doi.org/10.1177/0888406412444760.

Steiner, E.D., Greer, L., Berdie, L., Schwartz, H.L., Woo, A., Doan, S., Lawrence, R.A., Wolfe, R.L., & Gittens, A.D. (2022). Prioritizing strategies to racially diversify the K-12 teacher workforce: Findings from the state of the American teacher and state of the American principal surveys. RAND Corporation. www.rand.org/pubs/research_reports/RRA1108-6.html.

Sverdlik, A., Hall, N.C., McAlpine, L., & Hubbard, K. (2018). The Ph.D. experience: A review of the factors influencing doctoral students' completion, achievement, and well-being. International Journal of Doctoral Studies, 13, 361-388. https://doi.org/10.28945/4113.

Tucker, D.A, Compton, M.V., Allen, S.J., Mayo, R., Hooper, C., Ogletree, B., Flynn, P., Frazier, A., McMurry, S. (2020). Exploring barriers to doctoral education in communication sciences and disorders: Insights from practicing professionals. Perspectives of the ASHA Special Interest Groups, 1-12. https://doi.org/10.1044/2020_PERSP-20-00019.

Waiver of Proposed Rulemaking: Under the Administrative Procedure Act (APA) (5 U.S.C. 553) the Department generally offers interested parties the opportunity to comment on proposed priorities. Section 681(d) of IDEA, however, makes the public comment requirements of the APA inapplicable to the absolute priority in this notice.

Program Authority: 20 U.S.C. 1462 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget (OMB) Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474. (d) The regulations for this program in 34 CFR part 304. (e) The Administrative Priorities. (f) The Supplemental Priorities.

Note: The Department will implement the changes included in the Office of Management and Budget (OMB) final rule, OMB Guidance for Federal Financial Assistance (https://www.federalregister.gov/documents/2024/04/22/2024-07496/guidance-for-federal-financial-assistance), formerly called, Office of Management and Budget Guidance for Grants and Agreements, which amends 2 CFR part 200, on October 1, 2024. Grant applicants who anticipate a performance period start date on or after October 1, 2024, should follow the provisions stated in the updated 2 CFR part 200, when preparing an application. For more information about these updated regulations please visit: https://www2.ed.gov/policy/fund/guid/uniform-guidance/index.html. The Department will continue to provide more resources on our web page as they become available.

Note: The regulations in 34 CFR part 86 apply to IHEs only.

II. Award Information

Type of Award: Discretionary grants.

Estimated Available Funds: The Administration has requested $125,000,000 for the Personnel Development to Improve Services and Results for Children with Disabilities program for FY 2025, of which we intend to use an estimated $3,000,000 for this competition. The actual level of funding, if any, depends on final congressional action. However, we are inviting applications to allow enough time to complete the grant process if Congress appropriates funds for this program.

Contingent upon the availability of funds and the quality of applications, we may make additional awards in FY 2026 from the list of unfunded applications from this competition.

Estimated Range of Awards: $1,150,000-$1,250,000 for an individual IHE; $2,300,000-$2,500,000 for a two-IHE partnership application; and $3,450,000-$3,750,000 for a three-IHE partnership application.

Estimated Average Size of Awards: $1,200,000 for an individual IHE; $2,400,000 for a two-IHE group application; and $3,600,000 for a three-IHE group application.

Maximum Award: We will not make an award exceeding: $1,250,000 per project for a project period of 60 months or an award that exceeds $350,000 for any single budget period of 12 months for an individual IHE; $2,500,000 per project for a project period of 60 months or an award that exceeds $700,000 for any single budget period of 12 months for a two-IHE group application; and $3,750,000 per project for a project period of 60 months or an award that exceeds $1,050,000 for any single budget period of 12 months for a three-IHE group application.

Note: Applicants must describe, in their applications, the amount of funding being requested for each 12-month budget period.

Estimated Number of Awards: Up to 12 awards for individual IHEs. However, the total number of awards may change depending on the number of group application awards.

Note: The Department is not bound by any estimates in this notice.

Project Period: Up to 60 months.

III. Eligibility Information

1. Eligible Applicants: IHEs and private nonprofit organizations.

Note: To meet the absolute priority, eligible applicants (i.e., IHEs) must have a doctoral degree program that prepares scholars in special education, early intervention, or related services or be a nonprofit organization that has the legal authority to enter into grants and cooperative agreements with the Federal government on behalf of an applicant (i.e., IHE) that has a doctoral degree program that prepares scholars in special education, early intervention, or related services.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This competition does not require cost sharing or matching.

b. Indirect Cost Rate Information: This program uses a training indirect cost rate. This limits indirect cost reimbursement to an entity's actual indirect costs, as determined in its negotiated indirect cost rate agreement, or 8 percent of a modified total direct cost base, whichever amount is less. For more information regarding training indirect cost rates, see 34 CFR 75.562. For more information regarding indirect costs, or to obtain a negotiated indirect cost rate, please see www.ed.gov/about/ed-offices/ofo#Indirect-Cost-Division.

c. Administrative Cost Limitation: This program does not include any program-specific limitation on administrative expenses. All administrative expenses must be reasonable and necessary and conform to Cost Principles described in 2 CFR part 200 subpart E of the Guidance for Federal Financial Assistance.

3. Subgrantees: Under 34 CFR 75.708(b) and (c) a grantee under this competition may award subgrants—to directly carry out project activities described in its application—to the following types of entities: IHEs and private nonprofit organizations. The grantee may award subgrants to entities it has identified in an approved application or that it selects through a competition under procedures established by the grantee, consistent with 34 CFR 75.708(b)(2).

4. Other General Requirements:

a. Recipients of funding under this competition must make positive efforts to employ and advance in employment qualified individuals with disabilities (see section 606 of IDEA).

b. Applicants for, and recipients of, funding must, with respect to the aspects of their proposed projects relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at www.federalregister.gov/documents/2022/12/07/2022-26554/common-instructions-for-applicants-to-department-of-education-discretionary-grant-programs, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 40 pages; (2) limit the whole application to no more than 100 pages; and (3) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (10 points).

(1) The Secretary considers the significance of the proposed project.

(2) In determining the significance of the proposed project, the Secretary considers the following factors:

(i) The extent to which the proposed project will prepare personnel for fields in which shortages have been demonstrated; and

(ii) The importance or magnitude of the results or outcomes likely to be attained by the proposed project, especially improvements in teaching and student achievement.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project reflect up-to-date knowledge from research and effective practice;

(ii) The extent to which the training or professional development services to be provided by the proposed project are of sufficient quality, intensity, and duration to lead to improvements in practice among the recipients of those services;

(iii) The extent to which the services to be provided by the proposed project involve the collaboration of appropriate partners for maximizing the effectiveness of project services; and

(iv) The extent to which the proposed activities constitute a coherent, sustained program of training in the field.

(c) Quality of project personnel and quality of the management plan (20 points).

(1) The Secretary considers the quality of the project personnel and the quality of the management plan for the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel;

(ii) The adequacy of the management plan to achieve the objectives of the proposed project on time and within budget, including clearly defined responsibilities, timelines, and milestones for accomplishing project tasks; and

(iii) The extent to which the time commitments of the project director and principal investigator and other key project personnel are appropriate and adequate to meet the objectives of the proposed project.

(d) Adequacy of resources (20 points).

(1) The Secretary considers the adequacy of resources of the proposed project.

(2) In determining the adequacy of resources of the proposed project, the Secretary considers the following factors:

(i) The adequacy of support, including facilities, equipment, supplies, and other resources, from the applicant organization or the lead applicant organization; and

(ii) The extent to which the costs are reasonable in relation to the objectives, design, and potential significance of the proposed project.

(e) Quality of the project evaluation (15 points).

(1) The Secretary considers the quality of the evaluation to be conducted of the proposed project.

(2) In determining the quality of the evaluation, the Secretary considers the following factors:

(i) The extent to which the methods of evaluation are thorough, feasible, and appropriate to the goals, objectives, and outcomes of the proposed project; and

(ii) The extent to which the methods of evaluation will provide performance feedback and permit periodic assessment of progress toward achieving intended outcomes.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

In the event there are two or more applications with the same final score, and there are insufficient funds to fully support each of these applications, the scores under selection criterion (b) Quality of project services will be used as a tiebreaker. If the scores remain tied, then the scores under selection criterion (d) Adequacy of resources will be used to break the tie.

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Guidance for Federal Financial Assistance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purposes of Department reporting under 34 CFR 75.110, the Department has established a set of performance measures, including long-term measures, that are designed to yield information on various aspects of the effectiveness and quality of the Personnel Development to Improve Services and Results for Children with Disabilities program. These measures include (1) the percentage of preparation programs that incorporate scientifically based research or evidence-based practices (EBPs) into their curricula; (2) the percentage of scholars completing the preparation program who are knowledgeable and skilled in EBPs that improve outcomes for children with disabilities; (3) the percentage of scholars who exit the preparation program prior to completion due to poor academic performance; (4) the percentage of scholars completing the preparation program who are working in the area(s) in which they were prepared upon program completion; (5) the Federal cost per scholar who completed the preparation program; (6) the percentage of scholars who completed the preparation program and are employed in high-need districts; and (7) the percentage of scholars who completed the preparation program and who are rated effective by their employers.

In addition, the Department will gather information on the following outcome measures: (1) the number and percentage of scholars proposed by the grantee in their application that were actually enrolled and making satisfactory academic progress in the current academic year; (2) the number and percentage of enrolled scholars who are on track to complete the training program by the end of the project's original grant period; and (3) the percentage of scholars who completed the preparation program and are employed in the field of special education for at least two years.

Grantees may be asked to participate in assessing and providing information on these aspects of program quality.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Glenna Wright-Gallo,
Assistant Secretary for Special Education and Rehabilitative Services.

[FR Doc. 2024-23255 Filed 10-7-24; 8:45 am]

BILLING CODE 4000-01-P